DEPARTMENT OF HEALTH AND HUMAN SERVICES

Centers for Disease Control and Prevention

Draft Recommended Infection Control Practices for Dentistry, 2003

AGENCY: Centers for Disease Control and Prevention (CDC), and Department of Health and Human Services (DHHS).

ACTION: Notice of availability and request for public comment.

SUMMARY: This notice is a request for review of and comment on the Draft Recommended Infection Control Practices for Dentistry, 2003 available on the CDC Web site at http://www.cdc.gov/OralHealth/infection_control/guidelines/comments.htm. The guideline has been developed for practitioners who provide care for patients and who are responsible for monitoring and preventing infections and occupational health and safety in dental healthcare settings. The guideline is intended to replace Recommended Infection-Control Practices for Dentistry, 1993.

DATES: Comments on the Draft Recommended Infection Control Practices for Dentistry, 2003 must be received in writing (mail, e-mail, fax) on or before March 14, 2003.

FOR FURTHER INFORMATION CONTACT: If you can not access the internet, requests for a written copy can be submitted to: CDC, NCCDPHP, Division of Oral Health, Attention: Infection Control Guideline, 4770 Buford Highway, Mailstop F-10, Atlanta, GA 30341; via fax: 770-488-6080; or via email: denticrecom@cdc.gov.

ADDRESSES: Comments on the Draft Recommended Infection Control Practices for Dentistry, 2003 should be sent to the CDC, NCCDPHP, Division of Oral Health, Attention: Infection Control Guideline, 4770 Buford Highway, Mailstop F-10, Atlanta, GA 30341; or via fax: 770-488-6080; or via email: denticrecom@cdc.gov; or Internet: http://www.cdc.gov/OralHealth/infection_control/guidelines/comments.htm.

SUPPLEMENTARY INFORMATION: The two-part Draft Recommended Infection Control Practices for Dentistry, 2003 consolidates recommendations for the prevention and control of infectious diseases and the management of occupational health and safety issues related to infection control in dental settings. The guideline is intended to assist dental health-care personnel in preventing occupational exposures to bloodborne pathogens, the control of infections associated with contaminated medical devices or surgical instruments, and prevention of occupationally acquired infections and other related safety and health issues. Part I provides a review of the scientific data regarding dental infection control issues pertaining to an employee health program, personal protective equipment, preventing exposures to bloodborne pathogens, hand hygiene, sterilization or disinfection of patient-care items, the office environment, dental unit waterlines and water quality, special dental equipment and procedures, and program evaluation. Part II contains the consensus evidence-based recommendations by the CDC Division of Oral Health, the National Center for Infectious Diseases, the National Center for HIV, STD, and TB Prevention, and a national panel of experts in dental infection control.

Dated: January 31, 2003.
James D. Seligman,
Associate Director for Program Services, Centers for Disease Control and Prevention.

[FR Doc. 03-3026 Filed 2-6-03; 8:45 am]

BILLING CODE 4163-18-P